DEPARTMENT OF ENERGY

Oakland Operations Office; Financial Assistance Solicitation No. DE-PS03-02SF22467 and Program Announcement LAB-NE-2002-1, Nuclear Energy Research Initiative

AGENCY: Office of Nuclear Energy, Science and Technology (NE), Oakland Operations Office, Department of Energy (DOE).

ACTION: Notice of solicitation for financial assistance.

SUMMARY: The U. S. Department of Energy, Oakland Operations Office intends to issue a Solicitation and a Program Announcement on or about November 20, 2001, seeking applications/proposals for innovative scientific and engineering research and development in the field of nuclear energy as part of the Nuclear Energy Research Initiative (NERI). NERI is designed to support promising research to address the principal technical and scientific obstacles to future use of nuclear power in the U.S.

FOR FURTHER INFORMATION CONTACT: Denise Berry, Contract Specialist, Financial Assistance Center, U. S. Department of Energy, 1301 Clay Street, 700N, Oakland, California 94612-5208; telephone (510) 637-1873.

SUPPLEMENTARY INFORMATION: This Solicitation is intended for applications from U.S. universities or other institutions of higher learning, industry, non-profit and R&D organizations and collaborations among organizations, including those in which DOE national laboratories are participating, but not as the lead organization. A separate Program Announcement is being issued simultaneously for proposals in which a DOE national laboratory participates as the sole or performing lead organization.

The fields of research include: (1) Advanced Nuclear Energy Systems; (2) Fuel Recycling Technologies; (3) Advanced Nuclear Fuel and (4) Fundamental Science.

Up to a total of $10 million of Government Fiscal Year 2002 Federal funds are expected to be available for awards under this Solicitation and the complementary Program Announcement to DOE national laboratories. Typical funding of individual awards is expected to be in the range of $200,000 to $450,000 per year. Collaborative research projects involving two or more organizations may receive larger awards, where merited. The period of performance for individual projects is expected to be one to three years.

The Nuclear Energy Research Initiative will be conducted under the authority of the Energy and Water Development Appropriations Act of 2002, Public Law 107-66; the Catalog of Federal Domestic Assistance (CFDA) Number 81.121; and the applicable DOE Financial Assistance Regulations at 10 CFR part 600.

There have been changes made to the submittal procedures for applications/proposals responding to the NERI Solicitation and Program Announcement for Fiscal Year 2002.

These solicitations were formerly posted on the NERI website. The NERI Solicitation and Program Announcement for Fiscal Year 2002 will be available on the Industry Interactive Procurement System (IIPS), which can be accessed at IIPS homepage at: http://e-center.doe.gov.

Completed applications and field work proposals are required to be submitted as an Adobe PDF file via IIPS in accordance with the IIPS User Guide. The Guide can be obtained by going to the IIPS Homepage at: http://e-center.doe.gov and then clicking on the “Help” button. Individuals who have the authority to enter their institution into a legally binding contract/agreement and intend to submit proposals/applications via the IIPS system must register and receive confirmation that they are registered prior to being able to submit an application/proposal on the IIPS system. Once an applicant is registered with IIPS, a signature on the IIPS is the typed name of the applicant in Block 18 of the SF 424. Questions regarding the operation of IIPS may be submitted via e-mail to the IIPS Help Desk at IIPS_HelpDesk@e-center.doe.gov or via phone at (800) 683-0751. The only acceptable mode of application transmission is through IIPS. Applications submitted through the U.S. Postal Service, facsimile, telegraphically, courier companies, or hand-delivered hard copies will be considered non-responsive.

Issued in Oakland, California, on November 20, 2001.
R. Arlene Coleman,
Contracting Officer.

[FR Doc. 01-29580 Filed 11-27-01; 8:45 am]

BILLING CODE 6450-01-P